ENVIRONMENTAL PROTECTION AGENCY

[FRL-8931-3]

Casmalia Disposal Site; Notice of Proposed CERCLA Administrative De Minimis Settlement

AGENCY: Environmental Protection Agency (EPA).

ACTION: Notice; request for public comment.

SUMMARY: In accordance with section 122(i) of the Comprehensive Environmental Response, Compensation, and Liability Act, as amended (CERCLA) and section 7003 of the Resource Conservation and Recovery Act (RCRA), the EPA and the State of California's Department of Toxic Substances Control (DTSC), Regional Water Quality Control Board, Central Coast Region (Regional Board) and Department of Fish and Game (DFG) (jointly referred to as the State Regulatory Entities), are hereby providing notice of a proposed administrative de minimis settlement concerning the Casmalia Disposal Site in Santa Barbara County, California (the Casmalia Disposal Site). Section 122(g) of CERCLA provides EPA with the authority to enter into administrative de minimis settlements. This settlement is intended to resolve the liabilities of 142 settling parties for the Casmalia Disposal Site under sections 106 and 107 of CERCLA and section 7003 of RCRA. These parties are identified below. Of these 142 parties, 100 have elected to resolve their liability with EPA and the State Regulatory Entities. An additional 42 parties have elected to resolve their liability only with the State Regulatory Entities at this time; 23 of these have previously settled with EPA. The parties that have settled with the State Regulatory Entities have also settled potential natural resource damage claims by the California Department of Fish and Game as the State Natural Resource Trustee (“State Trustee”). Most of those resolving their liability to the EPA have also elected to resolve their liability for response costs and potential natural resource damage claims by the United States Fish and Wildlife Service (USFWS) and the National Oceanic and Atmospheric Administration (NOAA). The 100 parties settling with EPA and the State Regulatory Entities and State Trustee sent 19,762,737 lbs. of waste to the Casmalia Disposal Site, which represents 0.35% of total Site waste. This settlement requires these parties to pay over $1.7 million to EPA. These parties and the additional 42 parties settling with only the State Regulatory Entities and State Trustee will pay a total of $675,000 to the State Regulatory Entities and State Trustee. EPA is simultaneously publishing another Federal Register Notice relating to another settlement with de minimis parties that had received offers prior to the group of parties listed in this Notice.

Settling Parties: Parties that have elected to settle their liability with EPA and the State Regulatory Entities and State Natural Resource Trustee at this time are as follows: ABM Industries; Ambassador Laundry; Ancon Marine Environmental & Transportation (f/k/a Ancon Environmental); Apple Computers; Applied Materials, Inc.; Asian Garden, LTD (f/k/a Bridgecreek Development Company); Authentic Specialty Foods, Inc.; Avis Budget Group, Inc (f/k/a Cendant Corporation); BAE Systems Technology Solutions and Services Inc. (f/k/a Vitro Corporation); Beneto, Inc.; Benjamin and/or Larry Seewack; Brazos Asset Management, Inc.; Burbank-Glendale-Pasadena Airport Authority; C. R. Bard, Inc.; Cal Tech Cabinets; Cal Western Paints, Inc.; CertainTeed Pacific Windows Corporation (f/k/a Marshall Aluminum Products); Charleston Road Venture I/II; Chemex, Inc.; City of Oakland; City of Pasadena; Coastcast Corporation (f/k/a Western Metals Corporation); Colton-Wartsila, Inc.; Conrac Corporation/Mark IV Industries, Inc.; Cooper US, Inc. (f/k/a Procyon Technologies, Inc.); County of Sonoma; County of Yolo; Crest Car Wash Inc.; Cytec Engineered Materials, Inc.; D.H. Holdings Corp.; DeNaults Hardware; Dixon Hard Chrome, Inc.; Do Able Products; Inc., Electrolizing, Inc.; EME, Inc.; Evergreen Oil; Farwest Corrosion Control; Flo-Kem, Inc.; Freeway Truck Parts; Furukawa Electric North America, Inc (a/k/a KSI Disc Products, Inc.); Garhauer Marine Corporation; Georgia Pacific Corporation; Gillespie Furniture Company; Gould Electronics, Inc.; Griffith Homes; Hasa Inc. (f/k/a Hasa Pool Chemical Inc.); Henkel of America, Inc. and Henkel Corporation; Hoke, Inc. as successor by merger GoRegulator, Inc (f/k/a Vemco Corporation); IdentiPHI, Inc. (f/k/a SSP Solutions, Inc,/Litronic Industries); Indian Head Industries, Inc.; International Textile Group, Inc. (f/k/a Safety Components International, Inc.); Life Technologies Corporation, Successor in interest to Dexter Corporation/Mogul Corporation; Irvine Ranch Water District; Iversen Motors Company, Inc.; Lithonia West; Los Angeles West Mosquito Abatement District; Magnesium Alloy Products Company, Marmon Group, Inc.; McCormick Construction; McDonald's Corporation; Nalco Co.; National Oilwell Varco, LP; Nelco Products, Inc.; Oakite; Palace Plating; PB Fasteners; Penetone Corp.; Penske Truck Leasing Company LP; Pepsi Bottling Group; Philips Electronics; Plastics Research Corporation; Precision Castparts Corporation; Price Club (n/k/a Costco Wholesale); Quaker Chemical Corporation; Quinn Group, Inc.; Robert Mack Plumbing; Roberts Consolidated Industries Inc.; Safina Enterprises; Santa Maria Diesel Service; Santa Ynez Valley; College Elementary School District; Seven-Up Bottling Company of San Francisco and Seven-Up/RC Bottling Company, Inc., collectively referred to as Cadbury Schweppes Americas Beverages; SF Recycling & Disposal, Inc (f/k/a SWETS); Sogem Precious Metals Corporation; Spreckels Sugar Company, Inc. (f/k/a Imperial Holly Corporation); Stevedoring Services of America; Taiyo Yuden USA Inc. (successor to Xentek, Inc.); Teradyne, Inc.; The Glidden Company; The Rouse Company (f/k/a Howard Hughes Properties); Thunderbolt Wood Treating Co.; Town Center Associates; Toyota of El Cajon; Triple A Machine Shop; Tusonix; UIS Inc.; Ventura Harbor Boatyard, Inc.; Vishay Intertechnology, Inc.; Vulcan Pipe & Engineering Company; Welch's Overall Cleaning Co., Inc.; and Westside Produce Company.

Parties that have elected to settle their liability with the State Regulatory Entities and State Natural Resource Trustee only at this time are as follows (parties with asterisks previously settled with EPA):

Aramark Uniform & Career Apparel, LLC/Aratex Services, Inc.; BJ Services Company*; Burch Ford; C P Auto Products; Calwest Galvanizing Corp.*; CDG Parts Distribution Corp.(fka Beck/Arnley World Parts Corp.); City & County of San Francisco*; City of Santa Ana; City of Santa Barbara*; City of Santa Barbara Redevelopment Agency*; Cognis Corp. as successor to Henkel Corp.*; Crompton Corp.*; Cyclo Chemical Corp.*; Danny's Jiffy Car Wash; Engel & Gray; Ferguson Enterprises, Inc.*; Ford Motor Co.*; Greif Bros.; Greyhound Lines, Inc.*; Hexion Specialty Chemicals, Inc. (fka Borden, Inc.)*; International Paper Co.; Lithographix Inc.; Masco Corp.*; Neutron Plating; Occidental Chemical*; OXY USA (fka Cities Services Oil & Gas)*; Pacific Wood Preserving Companies; Phibro-Tech, Inc., successor to Southern California Chemical Co., Inc.*; Photronics, Inc.; Reichhold, Inc., (f/k/a Reichhold Chemical)*; Rossco Inc.; Royal Gold, Inc., (fka Royal Resources, Inc.)*; Sanmina-SCI Corp.*; Shepherd Machinery Co.; Simon Levi; Solar Turbines Inc.*; Southern California Graphics; Tecrim; The Black & Decker Corp.*; Triton Oil and Gas Corp.*; Tyco Electronics Corp.*; and Val G. Ramos.

DATES: EPA and the State Regulatory Entities will receive written comments relating to the settlement until August 14, 2009. The EPA and State Regulatory Entities will consider all comments they receive during this period, and may modify or withdraw consent to the settlement if any comments disclose facts or considerations indicating that the settlement is inappropriate, improper, or inadequate.

Public Meeting: In accordance with section 7003(d) of RCRA, 42 U.S.C. 6973(d), commenters may request an opportunity for a public meeting in the affected area. The deadline for requesting a public meeting is July 29, 2009. Requests for a public meeting may be made by contacting Karen Goldberg by e-mail at goldberg.karen@epa.gov, or by facsimile at (415) 947-3570. If a public meeting is requested, information about the date and time of the meeting will be published in the local newspaper, The Santa Maria Times, and will be sent to persons on the EPA's Casmalia Site mailing list. To be added to the mailing list, please contact: Jackie Lane at (415) 972-3236 or by e-mail at lane.jackie@epa.gov. A copy of the settlement document may be obtained by calling (415) 369-0559 extension 10, and leaving a message with your name, phone number, and mailing address or e-mail address.

ADDRESSES: Written comments should be addressed to Karen Goldberg, U.S. Environmental Protection Agency Region IX, 75 Hawthorne Street (mail code RC-3), San Francisco, California 94105-3901, or may be faxed to her at (415) 947-3570 or sent by e-mail to goldberg.karen@epa.gov. A copy of the comments should be sent to: Caroline Rudolph, Project Coordinator, DTSC, 8800 Cal Center Drive, Sacramento, CA 95826.

FOR FURTHER INFORMATION CONTACT: Additional information about the Casmalia Disposal Site and about the proposed settlement may be obtained on the EPA-maintained Casmalia Web site at: http://www.epa.gov/region09/casmalia or by calling Karen Goldberg at (415) 972-3951, who will direct any questions relating to the State Regulatory Entities to the appropriate State officials.

Dated: July 2, 2009.
Keith Takata,
Director, Superfund Division, Region IX.

[FR Doc. E9-16845 Filed 7-14-09; 8:45 am]

BILLING CODE 6560-50-P